DEPARTMENT OF ENERGY

Federal Energy Regulatory Commission

[Project No. 14215-001]

Commission of Public Works of the City of Spartanburg, South Carolina; Notice of Intent To File License Application, Filing of Pre-Application Document, and Approving Use of the Traditional Licensing Process

a. Type of Filing: Notice of Intent to File License Application and Request to Use the Traditional Licensing Process.

b. Project No.: 14215-001.

c. Date Filed: May 27, 2014.

d. Submitted By: Commission of Public Works of the City of Spartanburg, South Carolina (Spartanburg Water System).

e. Name of Project: Fingerville Hydroelectric Project.

f. Location: At the existing Fingerville Dam on the North Pacolet River, in Spartanburg County, South Carolina. No federal lands are occupied by the project works or located within the project boundary.

g. Filed Pursuant to: 18 CFR 5.3 of the Commission's regulations.

h. Potential Applicant Contact: Ken Tuck, Spartanburg Water System, 200 Commerce Street, P.O. Box 251, Spartanburg, South Carolina 29304; (864) 580-5642; email—ktuck@sws-sssd.org.

i. FERC Contact: Rachel McNamara at (202) 502-8340; or email at rachel.mcnamara@ferc.gov.

j. Spartanburg Water System filed its request to use the Traditional Licensing Process on May 27, 2013. Spartanburg Water System provided public notice of its request on May 25, 2013. In a letter dated July 7, 2014, the Director of the Division of Hydropower Licensing approved Spartanburg Water System's request to use the Traditional Licensing Process.

k. With this notice, we are initiating informal consultation with the U.S. Fish and Wildlife Service and/or NOAA Fisheries under section 7 of the Endangered Species Act and the joint agency regulations thereunder at 50 CFR, Part 402; and NOAA Fisheries under section 305(b) of the Magnuson-Stevens Fishery Conservation and Management Act and implementing regulations at 50 CFR 600.920. We are also initiating consultation with the South Carolina State Historic Preservation Officer, as required by section 106, National Historical Preservation Act, and the implementing regulations of the Advisory Council on Historic Preservation at 36 CFR 800.2.

l. With this notice, we are designating Spartanburg Water System as the Commission's non-federal representative for carrying out informal consultation pursuant to section 7 of the Endangered Species Act and section 305(b) of the Magnuson-Stevens Fishery Conservation and Management Act; and consultation pursuant to section 106 of the National Historic Preservation Act.

m. Spartanburg Water System filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

o. Register online at http://www.ferc.gov/docs-filing/esubscription.asp to be notified via email of new filing and issuances related to this or other pending projects. For assistance, contact FERC Online Support.

Dated: July 7, 2014.
Kimberly D. Bose,
Secretary.

[FR Doc. 2014-16344 Filed 7-11-14; 8:45 am]

BILLING CODE 6717-01-P